DEPARTMENT OF ENERGY

Federal Energy Regulatory Commission

Combined Notice of Filings

Take notice that the Commission has received the following Natural Gas Pipeline Rate and Refund Report filings:

Filings Instituting Proceedings

Docket Number: PR16-63-000.

Applicants: Black Hills Energy Arkansas, Inc.

Description: Tariff filing per 284.123(b)(1) + (g): Application for Approval of New Interruptible Services and Transportation Rates to be effective 7/1/2016; Filing Type: 1300.

Filed Date: 7/25/2016.

Accession Number: 20160725-5199 http://elibrary.ferc.gov/idmws/doc_info.asp?accession_num=20160415-5222.

Comments Due: 5 p.m. ET 8/15/16.

284.123(g) Protests Due: 5 p.m. ET 9/23/16.

Docket Number: PR16-59-001.

Applicants: Rocky Mountain Natural Gas LLC.

Description: Tariff filing per 284.123(b)(1),: Amendment to Revised Statement of Operating Conditions to be effective 6/16./2016; Filing Type: 1000.

Filed Date: 7/29/2016.

Accession Number: 201607295138.

Comments/Protests Due: 5 p.m. ET 8/19/16.

Docket Numbers: RP16-1113-000.

Applicants: Questar Overthrust Pipeline Company.

Description: Section 4(d) Rate Filing: Non-Conforming TSA No. 5613 to be effective 8/1/2016.

Filed Date: 7/28/16..

Accession Number: 20160728-5023

Comments Due: 5 p.m. ET 8/9/16.

Docket Numbers: RP16-1114-000.

Applicants: Texas Eastern Transmission, LP.

Description: Section 4(d) Rate Filing: Negotiated Rates—August 2016 Chevron TEAM 2014 Releases to be effective 8/1/2016.

Filed Date: 7/28/16.

Accession Number: 20160728-5025.

Comments Due: 5 p.m. ET 8/9/16.

Docket Numbers: RP16-1115-000.

Applicants: Pine Needle LNG Company, LLC.

Description: Section 4(d) Rate Filing: Clean-Up Filing—July 2016 to be effective 8/29/2016.

Filed Date: 7/28/16.

Accession Number: 20160728-5031.

Comments Due: 5 p.m. ET 8/9/16.

Docket Numbers: RP16-1116-000.

Applicants: Kern River Gas Transmission Company.

Description: Section 4(d) Rate Filing: 2016 Negotiated Rate Agreements to be effective 7/29/2016.

Filed Date: 7/28/16.

Accession Number: 20160728-5036.

Comments Due: 5 p.m. ET 8/9/16.

Docket Numbers: RP16-1117-000.

Applicants: Millennium Pipeline Company, LLC.

Description: Section 4(d) Rate Filing: RAM 2016—Periodic RAM Adjustment to be effective 9/1/2016.

Filed Date: 7/28/16.

Accession Number: 20160728-5046.

Comments Due: 5 p.m. ET 8/9/16.

Docket Numbers: RP16-1118-000.

Applicants: Southern Natural Gas Company, L.L.C.

Description: Section 4(d) Rate Filing: SNG Housekeeping Filing to be effective 8/1/2016.

Filed Date: 7/28/16.

Accession Number: 20160728-5054.

Comments Due: 5 p.m. ET 8/9/16.

Docket Numbers: RP16-1119-000.

Applicants: Equitrans, L.P.

Description: Compliance filing GSS Storage Ratchet and Maximum Storage Balance Update.

Filed Date: 7/28/16.

Accession Number: 20160728-5064.

Comments Due: 5 p.m. ET 8/9/16.

Docket Numbers: RP16-1120-000.

Applicants: Big Sandy Pipeline, LLC.

Description: Section 4(d) Rate Filing: Big Sandy Fuel Filing effective 9-1-2016 to be effective 9/1/2016.

Filed Date: 7/28/16.

Accession Number: 20160728-5089.

Comments Due: 5 p.m. ET 8/9/16.

Docket Numbers: RP16-1121-000.

Applicants: El Paso Natural Gas Company, L.L.C.

Description: Section 4(d) Rate Filing: Negotiated Rate Agreement Update (APS August 2016) to be effective 8/1/2016.

Filed Date: 7/28/16.

Accession Number: 20160728-5097.

Comments Due: 5 p.m. ET 8/9/16.

Docket Numbers: RP16-1122-000.

Applicants: Transcontinental Gas Pipe Line Company,

Description: Section 4(d) Rate Filing: Negotiated Rates—Cherokee AGL—Replacement Shippers—Aug 2016 to be effective 8/1/2016.

Filed Date: 7/29/16.

Accession Number: 20160729-5000.

Comments Due: 5 p.m. ET 8/10/16.

Docket Numbers: RP16-1123-000.

Applicants: Natural Gas Pipeline Company of America.

Description: Section 4(d) Rate Filing: Negotiated Rate Filing-Mercuria Energy America to be effective 8/1/2016.

Filed Date: 7/29/16.

Accession Number: 20160729-5001.

Comments Due: 5 p.m. ET 8/10/16.

Docket Numbers: RP16-1124-000.

Applicants: WBI Energy Transmission, Inc.

Description: Section 4(d) Rate Filing: 2016 Negotiated IT Rate Agreement—Oasis to be effective 8/1/2016.

Filed Date: 7/29/16.

Accession Number: 20160729-5050.

Comments Due: 5 p.m. ET 8/10/16.

Docket Numbers: RP16-1125-000.

Applicants: Wyoming Interstate Company, L.L.C.

Description: Section 4(d) Rate Filing: Fuel and L&U Filing to be effective 9/1/2016.

Filed Date: 7/29/16.

Accession Number: 20160729-5077.

Comments Due: 5 p.m. ET 8/10/16.

Docket Numbers: RP16-1126-000.

Applicants: Iroquois Gas Transmission System, L.P.

Description: Section 4(d) Rate Filing: 07/29/16. Negotiated Rates—Mercuria Energy America, Inc.(RTS) 7540-02,-06,-07 to be effective 8/1/2016.

Filed Date: 7/29/16.

Accession Number: 20160729-5079.

Comments Due: 5 p.m. ET 8/10/16.

Docket Numbers: RP16-1127-000.

Applicants: Gulf South Pipeline Company, LP.

Description: Section 4(d) Rate Filing: Cap Rel Neg Rate Agmt (Sempra 46193 to Sempra 46777) to be effective 8/1/2016.

Filed Date: 7/29/16.

Accession Number: 20160729-5080.

Comments Due: 5 p.m. ET 8/10/16.

Docket Numbers: RP16-1128-000.

Applicants: Gulf South Pipeline Company, LP.

Description: Section 4(d) Rate Filing: Cap Rel Neg Rate Agmt (BG 41007 to Shell 46814) to be effective 8/1/2016.

Filed Date: 7/29/16.

Accession Number: 20160729-5082.

Comments Due: 5 p.m. ET 8/10/16.

Docket Numbers: RP16-1129-000.

Applicants: Gulf South Pipeline Company, LP.

Description: Section 4(d) Rate Filing: Cap Rel Neg Rate Agmts (Encana 37663 to Texla 46816, ConocoPhillips 46830)) to be effective 6/6/2016.

Filed Date: 7/29/16.

Accession Number: 20160729-5083.

Comments Due: 5 p.m. ET 8/10/16.

Docket Numbers: RP16-1130-000.

Applicants: Gulf South Pipeline Company, LP.

Description: Section 4(d) Rate Filing: Amendment to Neg Rate Agmt (QEP 36601-58) to be effective 8/1/2016.

Filed Date: 7/29/16.

Accession Number: 20160729-5084.

Comments Due: 5 p.m. ET 8/10/16.

Docket Numbers: RP16-1131-000.

Applicants: Gulf South Pipeline Company, LP.

Description: Section 4(d) Rate Filing: Neg Rate Agmt (Shell 46809) to be effective 8/1/2016.

Filed Date: 7/29/16.

Accession Number: 20160729-5085.

Comments Due: 5 p.m. ET 8/10/16.

Docket Numbers: RP16-1132-000.

Applicants: Elba Express Company, L.L.C.

Description: Section 4(d) Rate Filing: EEC Housekeeping Filing to be effective 8/1/2016.

Filed Date: 7/29/16.

Accession Number: 20160729-5097.

Comments Due: 5 p.m. ET 8/10/16.

Docket Numbers: RP16-1133-000.

Applicants: MoGas Pipeline LLC.

Description: Penalty Revenue Crediting Report of MoGas Pipeline LLC.

Filed Date: 7/29/16.

Accession Number: 20160729-5098.

Comments Due: 5 p.m. ET 8/10/16.

Docket Numbers: RP16-1134-000.

Applicants: Texas Eastern Transmission, LP.

Description: Compliance filing Gulf Markets Compliance Filing—Docket No. CP15-90-000 to be effective 10/1/2016.

Filed Date: 7/29/16.

Accession Number: 20160729-5229.

Comments Due: 5 p.m. ET 8/10/16.

Docket Numbers: RP16-1135-000.

Applicants: Great Lakes Gas Transmission Limited Par.

Description: Great Lakes Gas Transmission submits its Semi-Annual Transporter's Use Report.

Filed Date: 7/29/16.

Accession Number: 20160729-5273.

Comments Due: 5 p.m. ET 8/10/16.

Docket Numbers: RP16-1136-000.

Applicants: Bluewater Gas Storage, LLC.

Description: Section 4(d) Rate Filing: Bluewater Gas Storage, LLC—Proposed Revisions to FERC Gas Tariff to be effective 8/31/2016.

Filed Date: 8/1/16.

Accession Number: 20160801-5065.

Comments Due: 5 p.m. ET 8/15/16.

Docket Numbers: RP16-1137-000.

Applicants: Tuscarora Gas Transmission Company.

Description: Compliance filing Compliance to RP16-299—Settlement Rates to be effective 8/1/2016.

Filed Date: 8/1/16.

Accession Number: 20160801-5070.

Comments Due: 5 p.m. ET 8/15/16.

Docket Numbers: RP16-1138-000.

Applicants: Algonquin Gas Transmission, LLC.

Description: Section 4(d) Rate Filing: Negotiated Rates—BBPC Release to EDF contract 791902 to be effective 8/1/2016.

Filed Date: 8/1/16.

Accession Number: 20160801-5092.

Comments Due: 5 p.m. ET 8/15/16.

Docket Numbers: RP16-1139-000.

Applicants: Boardwalk Storage Company, LLC.

Description: Tariff Cancellation: Cancellation of Second Revised Volume No. 1 to be effective 9/1/2016.

Filed Date: 8/1/16.

Accession Number: 20160801-5098.

Comments Due: 5 p.m. ET 8/15/16.

Docket Numbers: RP16-1140-000.

Applicants: Natural Gas Pipeline Company of America.

Description: Section 4(d) Rate Filing: Shell Negotiated Rate to be effective 8/1/2016.

Filed Date: 8/1/16.

Accession Number: 20160801-5100.

Comments Due: 5 p.m. ET 8/15/16.

Docket Numbers: RP16-1141-000.

Applicants: Algonquin Gas Transmission, LLC.

Description: Section 4(d) Rate Filing: Negotiated Rates—BBPC Release to EDF contract 791914 to be effective 8/1/2016.

Filed Date: 8/1/16.

Accession Number: 20160801-5101.

Comments Due: 5 p.m. ET 8/15/16.

Docket Numbers: RP16-1142-000.

Applicants: Boardwalk Storage Company, LLC.

Description: Section 4(d) Rate Filing: Tariff Reorganization—Submission of Third Revised Volume No. 1 to be effective 9/1/2016.

Filed Date: 8/1/16.

Accession Number: 20160801-5103.

Comments Due: 5 p.m. ET 8/15/16.

Docket Numbers: RP16-1143-000.

Applicants: Gulf South Pipeline Company, LP.

Description: Section 4(d) Rate Filing: Cap Rel Neg Rate Agmts (Atlanta 8438 to various eff 8-1-16) to be effective 8/1/2016.

Filed Date: 8/1/16.

Accession Number: 20160801-5104.

Comments Due: 5 p.m. ET 8/15/16.

Docket Numbers: RP16-1144-000.

Applicants: Gulf South Pipeline Company, LP.

Description: Section 4(d) Rate Filing: Cap Rel Neg Rate Agmt (PH 41455 to Texla 46867) to be effective 8/1/2016.

Filed Date: 8/1/16.

Accession Number: 20160801-5106.

Comments Due: 5 p.m. ET 8/15/16.

Docket Numbers: RP16-1145-000.

Applicants: Algonquin Gas Transmission, LLC.

Description: Section 4(d) Rate Filing: Negotiated Rates—BUG Release to Aggressive contract 791861 to be effective 8/1/2016.

Filed Date: 8/1/16.

Accession Number: 20160801-5109.

Comments Due: 5 p.m. ET 8/15/16.

Docket Numbers: RP16-1146-000.

Applicants: Algonquin Gas Transmission, LLC.

Description: Section 4(d) Rate Filing: Negotiated Rates—BUG Release to Browns contract 791913 to be effective 8/1/2016.

Filed Date: 8/1/16.

Accession Number: 20160801-5114.

Comments Due: 5 p.m. ET 8/15/16.

Docket Numbers: RP16-1147-000.

Applicants: Algonquin Gas Transmission, LLC.

Description: Section 4(d) Rate Filing: Negotiated Rates—Con Ed Release to Enhanced Energy contract 791915 to be effective 8/1/2016.

Filed Date: 8/1/16.

Accession Number: 20160801-5117.

Comments Due: 5 p.m. ET 8/15/16.

Docket Numbers: RP16-1148-000.

Applicants: Algonquin Gas Transmission, LLC.

Description: Section 4(d) Rate Filing: Negotiated Rates—ConEd Release to Aggressive contract 791859 to be effective 8/1/2016.

Filed Date: 8/1/16.

Accession Number: 20160801-5121.

Comments Due: 5 p.m. ET 8/15/16.

Docket Numbers: RP16-1149-000.

Applicants: Equitrans, L.P.

Description: Section 4(d) Rate Filing: Negotiated Capacity Release Agreements—8/1/2016 to be effective 8/1/2016.

Filed Date: 8/1/16.

Accession Number: 20160801-5124.

Comments Due: 5 p.m. ET 8/15/16.

Docket Numbers: RP16-1150-000.

Applicants: Algonquin Gas Transmission, LLC.

Description: Section 4(d) Rate Filing: Negotiated Rates—KeySpan Release to Aggressive contract 791860 to be effective 8/1/2016.

Filed Date: 8/1/16.

Accession Number: 20160801-5126.

Comments Due: 5 p.m. ET 8/15/16.

Docket Numbers: RP16-1151-000.

Applicants: Algonquin Gas Transmission, LLC.

Description: Section 4(d) Rate Filing: Negotiated Rates—Keyspan Release to Brown's contract 791912 to be effective 8/1/2016.

Filed Date: 8/1/16.

Accession Number: 20160801-5136.

Comments Due: 5 p.m. ET 8/15/16.

Docket Numbers: RP16-1152-000.

Applicants: Algonquin Gas Transmission, LLC.

Description: Section 4(d) Rate Filing: Negotiated Rates—RATIO ENERGY contract 791920 to be effective 8/1/2016.

Filed Date: 8/1/16.

Accession Number: 20160801-5140.

Comments Due: 5 p.m. ET 8/15/16.

Docket Numbers: RP16-1153-000.

Applicants: Texas Gas Transmission, LLC.

Description: Section 4(d) Rate Filing: Superseding Non-conforming Agmt (Mercuria 34366) to be effective 8/1/2016.

Filed Date: 8/1/16.

Accession Number: 20160801-5163.

Comments Due: 5 p.m. ET 8/15/16.

Docket Numbers: RP16-1154-000.

Applicants: Enable Mississippi River Transmission, L.

Description: Section 4(d) Rate Filing: Negotiated Rate Filing to Amend WRB #3808 8_1_16 to be effective 8/1/2016.

Filed Date: 8/1/16.

Accession Number: 20160801-5199.

Comments Due: 5 p.m. ET 8/15/16.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP16-440-000.

Applicants: ANR Pipeline Company.

Description: Motion Filing: Motion to Place in Effect RP16-440-000 to be effective 8/1/2016.

Filed Date: 7/29/16.

Accession Number: 20160729-5092.

Comments Due: 5 p.m. ET 8/10/16.

Docket Numbers: RP16-440-004.

Applicants: ANR Pipeline Company.

Description: Compliance filing Compliance to RP16-440-000 to be effective 8/1/2016.

Filed Date: 7/29/16.

Accession Number: 20160729-5096.

Comments Due: 5 p.m. ET 8/10/16.

Docket Numbers: RP16-748-002.

Applicants: Gulf Shore Energy Partners, LP.

Description: Compliance filing Gulfshore Amendment Filing. to be effective 7/29/2016.

Filed Date: 7/29/16.

Accession Number: 20160729-5133.

Comments Due: 5 p.m. ET 8/10/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 2, 2016.
Nathaniel J. Davis, Sr.,
Deputy Secretary.

[FR Doc. 2016-18887 Filed 8-9-16; 8:45 am]

BILLING CODE 6717-01-P